DEPARTMENT OF HOMELAND SECURITY

Federal Emergency Management Agency

44 CFR Part 67

[Docket ID FEMA-2008-0020; Internal Agency Docket No. FEMA-B-1050]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before September 1, 2009.

ADDRESSES: The corresponding preliminary Flood Insurance Rate Map (FIRM) for the proposed BFEs for each community are available for inspection at the community's map repository. The respective addresses are listed in the table below.

You may submit comments, identified by Docket No. FEMA-B-1050, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Greenwood, Wisconsin
Wisconsin | City of Greenwood | Black River | Approximately 4,460 feet downstream of County Highway G | None | + 1113
|  |  | Approximately 4,960 feet upstream of County Highway G | None | + 1126
* National Geodetic Vertical Datum. + North American Vertical Datum. # Depth in feet above ground. ‸ Mean Sea Level, rounded to the nearest 0.1 meter. | ** BFEs to be changed include the listed downstream and upstream BFEs, and include BFEs located on the stream reach between the referenced locations above. Please refer to the revised Flood Insurance Rate Map located at the community map repository (see below) for exact locations of all BFEs to be changed. | Send comments to William R. Blanton, Jr., Chief, Engineering Management Branch, Mitigation Directorate, Federal Emergency Management Agency, 500 C Street, SW., Washington, DC 20472. | ADDRESSES | City of Greenwood | Maps are available for inspection at City Hall, 102 North Main Street, Greenwood, WI 54437.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Arapahoe County, Colorado, and Incorporated Areas
Bear Gulch | Approximately 1 mile upstream of East 72nd Avenue | None | + 5355 | Unincorporated Areas of Arapahoe County.
| Approximately 2.1 miles upstream 56th Avenue alignment | None | + 5482
Bear Gulch Tributary | At the confluence with Bear Gulch | None | + 5402 | Unincorporated Areas of Arapahoe County.
| Approximately 900 feet upstream of the confluence with Bear Gulch | None | + 5408
Blackmer Gulch | Approximately 200 feet upstream of South Monroe Lane | + 5417 | + 5418 | City of Cherry Hills Village.
| Just upstream of the High Line Canal | + 5492 | + 5491
Box Elder Creek | Approximately 1,400 feet upstream of 72nd Avenue | None | + 5367 | City of Aurora, Unincorporated Areas of Arapahoe County.
| Approximately 0.5 miles downstream of Yale Avenue | None | + 5691
Cherry Creek | Approximately 0.92 miles downstream of Arapahoe Road | + 5623 | + 5624 | City of Aurora, City of Centennial, Unincorporated Areas of Arapahoe County.
| Approximately 1.70 miles upstream of East Broncos Parkway | + 5713 | + 5713
Coyote Run | At the confluence with Box Elder Creek | None | + 5393 | City of Aurora, Unincorporated Areas of Arapahoe County.
| Approximately 3.80 miles upstream of East Alameda Avenue | None | + 5814
Goldsmith Gulch | Just upstream of East Belleview Avenue | + 5591 | + 5590 | Unincorporated Areas of Arapahoe County, City of Centennial, City of Greenwood Village.
| Approximately 100 feet downstream of East Arapahoe Road | None | + 5773
Goldsmith Gulch West Tributary | Approximately 400 feet upstream of the confluence with Goldsmith Gulch | + 5640 | + 5641 | Unincorporated Areas of Arapahoe County, City of Greenwood Village.
| Approximately 100 feet downstream of East Peakview Avenue | + 5735 | + 5738
Greenwood Gulch | Just upstream of Clarkson Street | + 5344 | + 5344 | City of Centennial, City of Cherry Hills Village, City of Greenwood Village.
| Just upstream of Holly Street | + 5525 | + 5525
Little Dry Creek | Just upstream of Clarkson Street | + 5344 | + 5339 | Unincorporated Areas of Arapahoe County, City of Centennial, City of Cherry Hills Village, City of Greenwood Village.
| Just downstream of South Quebec Street | + 5619 | + 5618
Murphy Creek | Just downstream of East Alameda Avenue | + 5523 | + 5523 | City of Aurora, Unincorporated Areas of Arapahoe County.
| Approximately 1,700 feet downstream of East Wheatlands Parkway | None | + 6011
Prentice Gulch | At the confluence with Greenwood Gulch | + 5407 | + 5405 | City of Greenwood Village.
| Just upstream of Holly Street | + 5525 | + 5525
Quincy Gulch | At the confluence with Blackmer Gulch | + 5414 | + 5414 | City of Cherry Hills Village.
| Approximately 300 feet upstream of the High Line Canal | + 5494 | + 5494
SJCD 6200 | At the confluence with South Platte River | None | + 5360 | Unincorporated Areas of Arapahoe County, City of Littleton.
| Approximately 400 feet downstream of South Platte Canyon Road | None | + 5404
Willow Creek | At the confluence with Little Dry Creek | + 5537 | + 5536 | Unincorporated Areas of Arapahoe County.
| Just downstream of Englewood Dam outlet structure | + 5558 | + 5559
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Aurora
Maps are available for inspection at 15151 East Alameda Parkway, 3rd Floor, Aurora, CO 80012.
City of Centennial
Maps are available for inspection at the Arapahoe County Department of Public Works and Development, 10730 West Briarwood Avenue, Centennial, CO 80112.
City of Cherry Hills Village
Maps are available for inspection at 2450 East Quincy Avenue, Cherry Hills Village, CO 80113.
City of Greenwood Village
Maps are available for inspection at 6060 South Quebec Street, Greenwood Village, CO 80111.
City of Littleton
Maps are available for inspection at 2255 West Berry Avenue, Littleton, CO 80165.
Unincorporated Areas of Arapahoe County
Maps are available for inspection at the Arapahoe County Department of Public Works and Development, 10730 East Briarwood Avenue, Centennial, CO 80112.
Fergus County, Montana, and Incorporated Areas
Flood Channel | Approximately 70 feet upstream of Main Street Bridge | + 3609 | + 3610 | Town of Denton.
| Approximately 50 feet upstream of Railroad Bridge | + 3610 | + 3614
Shallow Flooding | Intersection of Bain Street and Main Street | None | # 1 | Town of Denton.
* National Geodetic Vertical Datum. | + North American Vertical Datum. | # Depth in feet above ground. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Denton
Maps are available for inspection at 305 West Watson Street, Lewistown, MT 59457.
Tuscarawas County, Ohio, and Incorporated Areas
Beggar Run (Backwater from Tuscarawas River) | At the confluence of Beggar Run with Conotton Creek | None | + 909 | Unincorporated Areas of Tuscarawas County.
| Approximately 0.78 mile upstream of the confluence of Beggar Run with Conotton Creek | None | + 909
Browns Run (Backwater from Tuscarawas River) | At the confluence of Browns Run with Conotton Creek | None | + 909 | Unincorporated Areas of Tuscarawas County.
| Just downstream of Henderson School Road | None | + 909
Conotton Creek (Backwater from Tuscarawas River) | At the confluence of Conotton Creek and Tuscarawas River | None | + 909 | Unincorporated Areas of Tuscarawas County.
| Approximately 0.76 mile upstream of Miller Hill Road (Tuscarawas/Carroll County boundary) | None | + 909
Dog Run (Backwater from Tuscarawas River) | At the confluence of Dog Run and Conotton Creek | None | + 909 | Unincorporated Areas of Tuscarawas County.
| Approximately 0.42 mile upstream of Norfolk and Western Railway | None | + 909
Huff Run (Backwater from Tuscarawas River) | At the confluence of Huff Run with Conotton Creek | None | + 909 | Unincorporated Areas of Tuscarawas County, Village of Mineral City.
| Approximately 1.38 miles upstream of New Cumberland Road | None | + 909
Indian Fork (Backwater from Tuscarawas River) | At the confluence of Indian Fork with Conotton Creek | None | + 909 | Unincorporated Areas of Tuscarawas County.
| Just downstream of State Route 212 | None | + 909
Middle Run (Backwater from Tuscarawas River) | At the confluence of Middle Run with Tuscarawas River | None | + 909 | Unincorporated Areas of Tuscarawas County.
| Approximately 0.72 mile upstream of Dover Zoar Road | None | + 909
Small Middle Run (Backwater from Tuscarawas River) | At the confluence of Small Middle Run with Tuscarawas River | None | + 909 | Unincorporated Areas of Tuscarawas County.
| Approximately 500 feet downstream of Dover Zoar Road | None | + 909
Stillwater Creek | Just downstream of the Baltimore and Ohio Railroad | None | + 844 | City of Midvale.
| Approximately 0.45 mile upstream of US Route 250 | None | + 845
Tuscarawas River | Just upstream of the Dover Dam | None | + 909 | Village of Bolivar, Unincorporated Areas of Tuscarawas County, Village of Zoar.
| Approximately 2.18 miles upstream of State Route 212 (Tuscarawas/Stark County boundary) | None | + 909
Tuscarawas River | Approximately 0.66 mile downstream of Tuscarawas Road | None | + 838 | Village of Tuscarawas.
Tuscarawas River | Approximately 1,000 feet upstream of the confluence of Tuscarawas River with Clewell Run | None | + 831 | Village of Gnadenhutten.
Wolf Run (Backwater from Tuscarawas River) | At the confluence of Wolf Run and Tuscarawas River | None | + 909 | Unincorporated Areas of Tuscarawas County.
| Approximately 0.89 mile upstream of Norfolk and Western Railway | None | + 909
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Midvale
Maps are available for inspection at City Hall, 311 Barnhill Road, Midvale, OH 44653.
Unincorporated Areas of Tuscarawas County
Maps are available for inspection at the Tuscarawas County Administrative Offices, 125 East High Avenue, New Philadelphia, OH 44663.
Village of Bolivar
Maps are available for inspection at the Bolivar Village Hall, 109 Canal Street Northwest, Bolivar, OH 44612.
Village of Gnadenhutten
Maps are available for inspection at the Gnadenhutten Village Hall, 131 South Walnut Street, Gnadenhutten, OH 44629.
Village of Mineral City
Maps are available for inspection at the Mineral City Village Hall, 8728 North High Street, Mineral City, OH 44656.
Village of Tuscarawas
Maps are available for inspection at the Tuscarawas Village Hall, 522 East Cherry Street, Tuscarawas, OH 44682.
Village of Zoar
Maps are available for inspection at the County Administrative Offices, 125 East High Avenue, New Philadelphia, OH 44663.
Yankton County, South Dakota, and Incorporated Areas
James River | Just upstream of the confluence with the Missouri River | None | + 1167 | Unincorporated Areas of Yankton County.
| Approximately 600 feet upstream of County Highway 213 (431st Avenue) | None | + 1188
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Yankton County
Maps are available for inspection at 321 West 3rd Street, Yankton, SD 57078.
Angelina County, Texas, and Incorporated Areas
Biloxi Creek North Tributary | Approximately 0.6 miles downstream of Loop 287 | None | + 306 | City of Lufkin.
| Just upstream of Loop 287 | None | + 329
Cedar Creek | Just downstream of Lotus Lane | None | + 278 | City of Lufkin.
| Just upstream of State Loop 339 | None | + 299
Cedar Creek North Tributary | Just upstream of Lotus Lane | None | + 280 | City of Lufkin.
| Approximately 1,070 feet upstream of Texas Southeastern Rail Road | None | + 286
Cedar Creek South Tributary | Confluence of Cedar Creek and Cedar Creek South Tributary | + 254 | + 253 | City of Lufkin.
| Approximately 1,300 feet upstream of Berry Road | None | + 287
Cedar Creek Tributary 3 | Confluence of Cedar Creek Tributary 3 and Cedar Creek | None | + 239 | City of Lufkin.
| Just upstream of Live Oak Lane | None | + 266
East Fork of West Branch Mill Creek | Confluence of; East Fork of West Branch Mill Creek and Tributary to Mill Creek Tributary | + 283 | + 279 | City of Lufkin.
| Just downstream of US Highway 69 | None | + 300
Hurricane Creek | Approximately 0.7 miles downstream of College Drive | None | + 232 | City of Lufkin.
| Just downstream of the intersection of Conn Avenue and Chestnut Street | + 279 | + 280
Hurricane Creek East Tributary (E) | Approximately 0.6 miles upstream of Brentwood Drive | None | + 269 | City of Lufkin.
| Confluence of Hurricane Creek and Hurricane Creek East Tributary (E) | None | + 273
Hurricane Creek East Tributary (E) Tributary | Confluence of Hurricane Creek East Tributary (E) Tributary and Hurricane Creek East Tributary (E) | + 246 | + 250 | City of Lufkin.
| Approximately 0.5 miles upstream of Brentwood Drive | None | + 267
Hurricane Creek East Tributary (North) | Just downstream of Jones Street | None | + 289 | City of Lufkin.
| Just upstream of Whipporwill Street | None | + 305
Hurricane Creek East Tributary (South) | Confluence of Hurricane Creek East Tributary (South) and Unnamed Tributary 4 to Hurricane Creek | None | + 237 | City of Lufkin.
| Just upstream of Pine Valley Drive | None | + 265
Hurricane Creek West Branch | Confluence of Hurricane Creek and Hurricane Creek West Branch | + 251 | + 250 | City of Lufkin.
| Just upstream of Park Lane | None | + 276
Mill Creek Tributary | Approximately 1,486 feet downstream of Bonita Street | None | + 290 | City of Lufkin.
| Approximately 230 feet upstream of Martin Luther King Drive | None | + 304
One Eyed Creek | Just downstream of Westwood Place | None | + 289 | City of Lufkin.
| Just downstream of Fuller Springs Drive | None | + 309
Shirley Creek | Just upstream of Loop 287 | + 259 | + 262 | City of Lufkin.
| Just upstream of Trenton Road | None | + 297
Shirley Creek Tributary 2 | Just downstream of Loop 287 | None | + 294 | City of Lufkin.
| Just downstream of Shady Pine Road | None | + 310
Shirley Creek Tributary 2 East Branch | Confluence of Shirley Creek Tributary 2 and Shirley Creek Tributary 2 East Branch | None | + 277 | City of Lufkin.
| Approximately 600 feet upstream of Freeman Street | None | + 296
Tributary to Mill Creek Tributary | Just downstream of the City Lake Dam | + 271 | + 272 | City of Lufkin.
| Just downstream of US Highway 69 | None | + 305
Tributary to Paper Mill Creek Tributary | Just downstream of State Highway 103 | None | + 272 | City of Lufkin.
| Approximately 675 feet upstream of Freeman Street | None | + 290
Unnamed Tributary 1 to Hurricane Creek | Confluence of Hurricane Creek and Unnamed Tributary 1 to Hurricane Creek | + 255 | + 259 | City of Lufkin.
| Just upstream of Farm-to-Market Road 58 | None | + 293
Unnamed Tributary 2 to Hurricane Creek | Confluence of Hurricane Creek and Unnamed Tributary 2 to Hurricane Creek | None | + 247 | City of Lufkin.
| Approximately .4 miles upstream from Tulane Road | None | + 273
Unnamed Tributary 3 to Hurricane Creek | Confluence of Hurricane Creek and Unnamed Tributary 3 to Hurricane Creek | None | + 236 | City of Lufkin.
| Just upstream of Loop 287 | None | + 264
Unnamed Tributary 4 to Hurricane Creek | Confluence of Unnamed Tributary 4 to Hurricane Creek and Hurricane Creek East Tributary (South) | None | + 237 | City of Lufkin.
| Approximately 773 feet upstream of Crown Colony Drive | None | + 272
Unnamed Tributary to Papermill Creek | Limit of detailed study nearest to Kit McConnico Park | None | + 244 | City of Lufkin.
| Lower limit of detailed study (no physical reference available) | None | + 252
| Approximately 0.6 miles downstream of Moffett Road | None | + 252
| Approximately 0.5 miles downstream of Moffett Road | None | + 252
| Approximately 1,800 feet downstream of Old Moffett Road | None | + 254
| Just upstream of State Loop 287 | + 259 | + 261
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lufkin
Maps are available for inspection at 300 East Shepard Avenue, Lufkin, TX 75901.

(Catalog of Federal Domestic Assistance No. 97.022, “Flood Insurance.”)

Dated: May 21, 2009.
Deborah S. Ingram,
Acting Deputy Assistant Administrator for Mitigation, Mitigation Directorate, Department of Homeland Security, Federal Emergency Management Agency.

[FR Doc. E9-12847 Filed 6-2-09; 8:45 am]

BILLING CODE 9110-12-P